FEDERAL COMMUNICATIONS COMMISSION

47 CFR Parts 51 and 54

[WC Docket Nos. 10-90, 07-135, 05-337, 03-109; GN Docket No. 09-51; CC Docket Nos. 01-92, 96-45; WT Docket No. 10-208; FCC 12-47]

Connect America Fund; a National Broadband Plan for Our Future; Establishing Just and Reasonable Rates for Local Exchange Carriers; High-Cost Universal Service Support; Correction

AGENCY: Federal Communications Commission.

ACTION: Final rule; correction.

SUMMARY: The Federal Communications Commission published in the Federal Register of May 29, 2012, a document that reconsiders and modifies certain provisions of the Commission's rules that were adopted in the USF/ICC Transformation Order. This final rule correction states that the amendments made to 47 CFR part 51 shall be effective on July 13, 2012, and, the amendments made to 47 CFR part 54 shall be effective on June 28, 2012.

DATES: Effective June 19, 2012, the effective date of the amendments to 47 CFR part 51 in the final rule published May 29, 2012 (77 FR 31520) is corrected to July 13, 2012. The effective date of the amendments to 47 CFR part 54 shall remain June 28, 2012.

FOR FURTHER INFORMATION CONTACT: Amy Bender, Wireline Competition Bureau, (202) 418-1469, Victoria Goldberg, Wireline Competition Bureau, (202) 418-1520

SUPPLEMENTARY INFORMATION: The FCC published a document in the Federal Register of May 29, 2012, (77 FR 31520) stating that 47 CFR part 51, is amended, and such rule amendments shall be effective 45 days after the date of publication of the rule amendments in the Federal Register. The document also states that 47 CFR part 54, is amended, and such rule amendments shall be effective 30 days after the date of publication of the rule amendments in the Federal Register. This document specifies the actual effective dates of the rule amendments. The Dates heading of the May 29, 2012, Federal Register document only included the effective date of the revisions to 47 CFR part 51. This final rule correction specifies the separate effective dates for the part 51 amendments and the part 54 amendments as follows: The amendments to part 51 are effective July 13, 2012. The amendments to part 54 are effective June 28, 2012.

Federal Communications Commission.
Marlene H. Dortch,
Secretary.

[FR Doc. 2012-14303 Filed 6-18-12; 8:45 am]

BILLING CODE 6712-01-P